DEPARTMENT OF EDUCATION

Applications for New Awards; Bipartisan Budget Act of 2018—Defraying Costs of Enrolling Displaced Students Program

AGENCY: Office of Postsecondary Education, Department of Education.

ACTION: Notice.

SUMMARY: The Department of Education is issuing a notice inviting applications for the fiscal year (FY) 2018 Defraying Costs of Enrolling Displaced Students Program, Catalog of Federal Domestic Assistance (CFDA) number 84.938S.

DATES:

Applications Available: May 3, 2018.

Deadline for Transmittal of Applications: June 4, 2018.

ADDRESSES: The addresses pertinent to this program—including the addresses for obtaining and submitting an application—can be found under SUPPLEMENTARY INFORMATION.

FOR FURTHER INFORMATION CONTACT: James Davis, U.S. Department of Education, 400 Maryland Avenue SW, Room 268-02, Washington, DC 20202-6200. Telephone: (202) 453-7814. Email: James.Davis@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Under the Defraying Costs of Enrolling Displaced Students Program (DCEDS Program or DCEDS), we will award grants to eligible institutions of higher education (IHEs) to help defray their unexpected expenses associated with enrolling displaced students from IHEs at which operations have been disrupted by a covered disaster or emergency (“qualifying displaced students”), namely Hurricanes Harvey, Irma, and Maria and the wildfires in calendar year 2017 for which the President declared a major disaster or emergency under section 401 or 501 of the Robert T. Stafford Disaster Relief and Emergency Assistance Act (42 U.S.C. 5170 and 5191) (“covered disaster or emergency”).

Exemption From Rulemaking: This program is exempt from the rulemaking requirements in section 437 of the General Education Provisions Act (GEPA) (20 U.S.C. 1232) and section 553 of the Administrative Procedure Act (APA) (5 U.S.C. 553). Division B, Subdivision 1, Title VIII, “Hurricane Education Recovery” paragraph (6), of Public Law 115-123, the “Bipartisan Budget Act of 2018.” 132 Stat. 98.

Program Authority: Bipartisan Budget Act of 2018, Public Law 115-123.

Applicable Regulations: (a) The Education Department General Administrative Regulations in 34 CFR parts 75, 77, 79, 81, 82, 84, 97, 98 and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply for this program.

Note: The regulations in 34 CFR part 79 apply to all applicants except federally recognized Indian tribes.

II. Award Information

Type of Award: Discretionary grants.

Estimated Available Funds: $75,000,000.

Estimated Maximum Award: $2,000,000.

Estimated Average Size of Awards: $200,000.

Estimated Number of Awards: 250.

Note: The Department is not bound by any estimates in this notice.

Project Period: The Department expects to allocate most of the available funds during FY 2018. We may reserve funds to help defray costs that extend into future fiscal years.

III. Eligibility Information

1. Eligible Applicants: Institutions that meet the definition of “institution of higher education” in section 101 or section 102(a)(1) of the Higher Education Act of 1965, as amended (20 U.S.C. 1001 and 1002(a)(1)) if they have had unexpected expenses associated with enrolling displaced students from IHEs at which operations have been disrupted by a covered disaster or emergency.

2. a. Cost Sharing or Matching: This program does not require cost sharing or matching.

b. Supplement-Not-Supplant: This program involves supplement-not-supplant funding requirements. Grantees may not use DCEDS funds to supplant funds that have been or otherwise would have been used for the same purpose, including funds made available through the Federal Emergency Management Agency, a State, or a nonprofit relief organization, with the exception of unreimbursed funds that the grantee has already spent on unexpected expenses associated with enrolling displaced students from affected IHEs. Grantees may use DCEDS funds to supplement funds from other sources up to the full amount needed to fully pay the unexpected expenses.

IV. Application and Submission Information

1. Address To Request Application Package: James Davis, U.S. Department of Education, 400 Maryland Avenue SW, Room 268-02, Washington, DC 20202-6200. Telephone: (202) 453-7814. Email: James.Davis@ed.gov.

To obtain a copy via the internet, use the following address: http://www2.ed.gov/programs/dceds/applicant.html.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission: Application contents shall include:

a. A description of the applicant's activities, and unexpected expenses associated with enrolling displaced students from IHEs at which operations have been disrupted by a covered disaster or emergency, for which the applicant requests funding under this program.

b. A list of the displaced students, by anonymous unique identifier, for whom the applicant engaged in the enrollment activities labeled (a) through (c) below under Selection Criteria (tuition, fees, room, and board) and now requests funding under this program, as a result of each covered disaster or emergency, including, for each student, (1) the institution from which the student was displaced, and (2) the covered disaster or emergency that resulted in the student being displaced.

c. A description of the steps the applicant is taking to ensure accountability for the use of program funds and compliance with statutory requirements.

d. The total amount of aid requested for the allowable enrollment activities labeled (a) through (c) below under Selection Criteria (tuition, fees, room, and board).

Note: We may consider late applications after on-time applications are evaluated.

Applications for grants under this competition may be submitted in one of two ways:

a. Email an electronic version of your application in PDF (Portable Document Format) to DCEDSProgram@ed.gov, or

b. Mail the original and two copies of your application by express mail service through the U.S. Postal Service or through a commercial carrier to James Davis, Office of Postsecondary Education, U.S. Department of Education, 400 Maryland Avenue SW, Room 268-02, Washington, DC 20202-6200.

The amount of time it can take to email an application will vary depending on a variety of factors, including the size of the application and the speed of your internet connection. Therefore, we strongly recommend that you do not wait until minutes before the application deadline to begin emailing your application.

For information on requirements when submitting paper applications, please see Common Instructions for Applicants to Department of Education Discretionary Grant Programs, published in the Federal Register on February 12, 2018 (83 FR 6003) and available at www.gpo.gov/fdsys/pkg/FR-2018-02-12/pdf/2018-02558.pdf.

3. Accommodations: Individuals with disabilities who need an accommodation or auxiliary aid in connection with the application process should contact the person listed under FOR FURTHER INFORMATION CONTACT. If the Department provides an accommodation or auxiliary aid to an individual with a disability in connection with the application process, the individual's application remains subject to all other requirements and limitations in this notice.

4. Intergovernmental Review: This program is subject to Executive Order 12372 and the regulations in 34 CFR part 79. However, under 34 CFR 79.8(a), we waive intergovernmental review in order to make awards in the applicable timeframe.

5. Funding Restrictions: We reference regulations outlining funding restrictions in the Applicable Regulations section above.

6. Data Universal Numbering System Number, Taxpayer Identification Number, and System for Award Management: To do business with the Department of Education, you must have a Data Universal Numbering System (DUNS) number and a Taxpayer Identification Number, and you must maintain an active System for Award Management (SAM) registration with current information while your application is under review by the Department and, if you are awarded a grant, during the project period. For information on these requirements, please see Common Instructions for Applicants to Department of Education Discretionary Grant Programs, published in the Federal Register (83 FR 6003) and available at www.gpo.gov/fdsys/pkg/FR-2018-02-12/pdf/2018-02558.pdf.

You may access the electronic grant application for the DCEDS Program at https://www.ed.gov/hurricane-help.

Note: Applications must be emailed or mailed as described above. Applications will not be accepted through www.grants.gov.

V. Application Review Information

1. Selection Criteria: The Secretary establishes the following factors as criteria to be used in allocating these funds:

(a) Total amount of tuition waived, not including any portion covered by Federal, State, or private aid, for qualifying displaced students;

(b) Total amount of fees waived, not including any portion covered by Federal, State, or private aid, for qualifying displaced students;

(c) Total amount of room and board costs incurred by the applicant, not including any portion covered by Federal, State, or private aid, in order to enroll qualifying displaced students;

(d) Funds already received by the applicant to help defray the unexpected costs of enrolling qualifying displaced students. (To the extent that Federal, State, and private aid has already been subtracted from parts (a) through (c), do not count such amounts again in part (d) as funds already received. Please see the supplement-not-supplant information listed under Supplement-Not-Supplant.)

Note: In this competition, only the costs of tuition, fees, room, and board are allowable. If, after awards are made, funds remain available to defray additional costs under this program, we may invite applications under a new competition.

2. Review and Selection Process: Most funds will be awarded to IHEs that have enrolled displaced students during the 2017-2018 academic year.

The Secretary may solicit, from any applicant at any time, additional information needed to process an application.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

5. Improper Payments—Additional Reporting: The Bipartisan Budget Act of 2018 designates this program to be “susceptible to significant improper payments” for purposes of the Improper Payments Information Act of 2002 (31 U.S.C. 3321 note). See Public Law 115-123, the “Bipartisan Budget Act of 2018,” Division B, Subdivision 1, Title XII, § 21208(a), Feb. 9, 2018; 132 Stat. 108. Grantees will be required to undertake significant additional reporting as we implement plans to identify and reduce improper payments. We will provide additional information after we make awards.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at www.gpo.gov/fdsys. At this site you can view this document, as well as all other documents of this Department published in the Federal Register, in text or PDF. To use PDF you must have Adobe Acrobat Reader, which is available free at the site.

You also may access documents of the Department published in the Federal Registerby using the article search feature at www.federalregister.gov. Specifically, through the advanced search feature at this site, you can limit your search to documents published by the Department.

Dated: April 30, 2018.
Frank T. Brogan,
Principal Deputy Assistant Secretary and Delegated the Duties of the Assistant Secretary, Office of Policy, Evaluation and Policy Development, Delegated the duties of Assistant Secretary, Office of Postsecondary Education.

[FR Doc. 2018-09418 Filed 5-2-18; 8:45 am]

BILLING CODE 4000-01-P